DEPARTMENT OF COMMERCE

National Oceanic and Atmospheric Administration

[RTID 0648-XC387]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting of its Law Enforcement Technical Committee (LETC), in conjunction with the Gulf States Marine Fisheries Commission's Law Enforcement Committee (LEC).

DATES: The meeting will convene on Tuesday, October 18, 2022; beginning at 9:30 a.m. until 5 p.m., CDT. The Committees will be in a closed session from 8:30 a.m. until 9:15 a.m.

ADDRESSES:

Council address: The meeting will be held at the San Antonio Marriott Riverwalk Hotel, located at 889 East Market Street, San Antonio, TX; (877) 622-3056. Please visit the Gulf Council website (www.gulfcouncil.org) for agenda and meeting materials information.

Council address: Gulf of Mexico Fishery Management Council, 4107 W Spruce Street, Suite 200, Tampa, FL 33607; telephone: (813) 348-1630.

FOR FURTHER INFORMATION CONTACT: Dr. Ava Lasseter, Anthropologist, Gulf of Mexico Fishery Management Council; ava.lasseter@gulfcouncil.org, telephone: (813) 348-1630, and Mr. Steve VanderKooy, Inter-jurisdictional Fisheries (IJF) Coordinator, Gulf States Marine Fisheries Commission; svanderkooy@gsmfc.org, telephone: (228) 875-5912.

SUPPLEMENTARY INFORMATION: The following items of discussion are on the agenda, though agenda items may be addressed out of order and any changes will be noted on the Council's website when possible.

Joint Gulf Council's Law Enforcement Technical Committee (LETC) and Gulf States Marine Fisheries Commission's Law Enforcement Committee (LEC) Meeting Agenda, Tuesday, October 18, 2022; 8:30 a.m.-5 p.m., CDT.

The joint meeting will begin in a CLOSED SESSION from 8:30 a.m. to 9:15 a.m. with introductions and review of revisions to Council SOPP's regarding fishing violations.

General session will begin at approximately 9:30 a.m. with introductions and adoption of agenda, and approval of minutes from the Joint LEC/LETC virtual meeting from March 2022.

The Gulf Council LETC will review and discuss potential management changes to Vermillion Snapper and Gray Triggerfish; changes to Mexico Status Due to IUU Enforcement; IFQ Landings Transaction Discrepancies; and State Licensed Charters Fishing in Federal Waters. The Committees will review the Council's Framework Actions to Change For-Hire Requirements, including Modification to Location Reporting Requirements and Modification of Trip Declaration Requirements.

Following, the committees will receive a SEFHIER program update, a presentation on Return `Em Right, and will discuss the Nomination Process for the 2022 Officer/Team of the Year Award.

The GSMFC LEC will follow-up on the Future of the Strategic and Operations Plans, hold a discussion on FADs in State Waters, and review the IJF Program Activity for the status of the Red Drum Profile, Mangrove Snapper Profile Preparations, and Commission Pubs.

The committee will present the State Report Highlights from Florida, Alabama, Mississippi, Louisiana, Texas, USCG, NOAA OLE, and USFWS; and will discuss any Other Business items.

— Meeting Adjourns

The Agenda is subject to change, and the latest version along with other meeting materials will be posted on www.gulfcouncil.org.

The Law Enforcement Technical Committee consists of principal law enforcement officers in each of the Gulf States, as well as the NOAA Office of Law Enforcement, U.S. Fish and Wildlife Service, the U.S. Coast Guard, and the NOAA Office of General Counsel for Law Enforcement.

Although other non-emergency issues not on the agenda may come before this group for discussion, in accordance with the Magnuson-Stevens Fishery Conservation and Management Act, those issues may not be the subject of formal action during this meeting. Actions will be restricted to those issues specifically identified in the agenda and any issues arising after publication of this notice that require emergency action under Section 305(c) of the Magnuson-Stevens Fishery Conservation and Management Act, provided the public has been notified of the Council's intent to take action to address the emergency.

Authority: 16 U.S.C. 1801 et seq.

Dated: September 14, 2022.
Rey Israel Marquez,
Acting Deputy Director, Office of Sustainable Fisheries, National Marine Fisheries Service.

[FR Doc. 2022-20259 Filed 9-19-22; 8:45 am]

BILLING CODE 3510-22-P